DEPARTMENT OF ENERGY

Federal Energy Regulatory Commission

[Project No. 2337-077]

PacifiCorp; Notice of Availability of Draft Environmental Assessment

In accordance with the National Environmental Policy Act of 1969 and the Federal Energy Regulatory Commission's (Commission) regulations, 18 CFR part 380, the Office of Energy Projects has reviewed the application for new license for the Prospect No. 3 Hydroelectric Project, located on the South Fork of the Rogue River in Jackson County, Oregon, and has prepared a Draft Environmental Assessment (DEA) for the project. The project currently occupies 32.4 acres of federal land managed by the U.S. Forest Service as part of the Rogue River-Siskiyou National Forest.

The DEA contains the staff's analysis of the potential environmental impacts of continued operation and maintenance of the project and concludes that relicensing the project, with appropriate environmental protective measures, would not constitute a major federal action that would significantly affect the quality of the human environment.

A copy of the DEA is available for review at the Commission in the Public Reference Room or may be viewed on the Commission's Web site at http://www.ferc.gov using the eLibrary link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

Any comments should be filed within 45 days from the date of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE., Washington, DC 20426. The first page of any filing should include docket number P-2337-077.

For further information, contact Dianne Rodman at (202) 502-6077.

Dated: October 17, 2017.
Kimberly D. Bose,
Secretary.

[FR Doc. 2017-22920 Filed 10-20-17; 8:45 am]

BILLING CODE 6717-01-P